DEPARTMENT OF COMMERCE

National Telecommunications and Information Administration

Proposed Information Collection; Comment Request; State Broadband Data and Development Grant Program Progress Report

AGENCY: National Telecommunications and Information Administration.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before October 12, 2010.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument and instructions should be directed to Anne Neville, Department of Commerce, Room ___, 14th and Constitution Avenue, NW., Washington, DC 20230 (or via Internet at ANeville@ntia.doc.gov).

SUPPLEMENTARY INFORMATION:

I. Abstract

Section 6001(l) of the American Recovery and Reinvestment Act of 2009 (Recovery Act), Public Law 111-5 (2009), requires the Assistant Secretary of Commerce for Information and Communications (Assistant Secretary) to develop and maintain a comprehensive, interactive, and searchable nationwide inventory map of existing broadband service capability and availability in the United States that depicts the geographic extent to which broadband service capability is deployed and available from a commercial or public provider throughout each state. Recovery Act section 6001(l), 123 Stat. at 516. The statute further provides that the Assistant Secretary will make the national broadband map accessible by the public on a National Telecommunications and Information Administration (NTIA) Web site no later than February 17, 2011.

On July 8, 2009, NTIA issued the Notice of Funds Availability and Solicitation of Applications for the State Broadband Data and Development (SBDD) Grant Program (NOFA, 74 FR 32545, July 8, 2009), a competitive, merit-based matching grant program funding projects that collect comprehensive and accurate State-level broadband mapping data, develop State-level broadband maps, aid in the development and maintenance of a national broadband map, and fund statewide initiatives directed at broadband planning. setting forth the requirements for this competitive grant program.

The NOFA requires Awardees to submit regular reports to NTIA. Specifically, it states:

All awardees under this Program will provide quarterly reports on: (a) Achievement of project goals, objectives, and milestones (e.g., collection of a “substantially complete data set”; completion of data review or quality control process) as set forth by the applicant in their application timeline; i. expenditure of grant funds and how much of the award remains; ii. amount of non-federal cash or in-kind investment that is being added to complete the project; and iii. whether the awardee is on schedule to provide broadband-related data in accordance with the mapping project timeline. See 74 FR 32556 (July, 8, 2009).

NTIA requires these quarterly performance reports in order to gauge the progress of Awardees in meeting their project goals. Without such formal reporting, NTIA will be unable to effectively monitor the expenditure of these Recovery Act funds. While Awardees are also required to submit Recovery Act reports, these reports do not include vital details that NTIA in order to provide proper oversight of activities.

II. Method of Collection

NTIA will request awardees to submit their reports via email. Awardees will provide the quarterly reports using word processing and spreadsheet software such as Microsoft Word and Excel.

III. Data

OMB Control Number: 0660-0034.

Form Number(s): Not applicable.

Type of Review: Regular submission (extension of a currently approved information collection).

Affected Public: Business or other for-profit organizations.

Estimated Number of Respondents: 56.

Estimated Time per Response: 4 hours.

Estimated Total Annual Burden Hours: 896.

Estimated Total Annual Cost to Public: 0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public rec

Dated: August 4, 2010.
Gwellnar Banks,
Management Analyst, Office of the Chief Information Officer.

[FR Doc. 2010-19621 Filed 8-9-10; 8:45 am]

BILLING CODE 3510-06-P